DEPARTMENT OF ENERGY

Federal Energy Regulatory Commission

[Docket No. EG03-101-000, et al.]

Flat Rock Windpower LLC, et al.; Electric Rate and Corporate Filings

September 16, 2003.

The following filings have been made with the Commission. The filings are listed in ascending order within each docket classification.

1. Flat Rock Windpower LLC

[Docket No. EG03-101-000]

Take notice that on September 10, 2003, Flat Rock Windpower LLC (Applicant) filed with the Commission an Application for Determination of Exempt Wholesale Generator Status pursuant to Part 365 of the Commission's regulations.

The Applicant states that it is developing a wind-powered eligible facility with a capacity of approximately 300 megawatts, which will be located in Lewis County, New York.

Comment Date: October 7, 2003.

2. FPL Energy Oklahoma Wind, LLC

[Docket No. EG03-102-000]

Take notice that on September 10, 2003, FPL Energy Oklahoma Wind, LLC (the Applicant), filed with the Federal Energy Regulatory Commission (the Commission) an application for determination of exempt wholesale generator status pursuant to Part 365 of the Commission's regulations.

Applicant states that it is a Delaware limited liability company engaged directly and exclusively in the business of owning and operating an approximately 51 MW wind-powered generation facility located in Harper and Woodward Counties, Oklahoma. Applicant also states that electric energy produced by the facility will be sold at wholesale.

Comment Date: October 7, 2003.

3. FPL Energy Sooner Wind, LLC

[Docket No. EG03-103-000]

Take notice that on September 10, 2003, FPL Energy Sooner Wind, LLC (the Applicant), filed with the Federal Energy Regulatory Commission (the Commission) an application for determination of exempt wholesale generator status pursuant to Part 365 of the Commission's regulations.

Applicant states that it is a Delaware limited liability company engaged directly and exclusively in the business of owning and operating an approximately 51 MW wind-powered generation facility located in Harper and Woodward Counties, Oklahoma. Electric energy produced by the facility will be sold at wholesale.

Comment Date: October 7, 2003.

4. Coral Power, L.L.C.; Coral Energy Management, LLC; Coral Canada U.S. Inc.

[Docket Nos. ER96-25-023, ER01-1363-003, and ER01-3017-003]

Take notice that on September 10, 2003, Coral Power, L.L.C. (Coral Power), Coral Energy Management, LLC (Coral EM) and Coral Canada U.S. Inc. (Coral Canada), filed with the Federal Energy Regulatory Commission (Commission) an amendment to their consolidated three-year updated market power analysis submitted to the Commission on August 18, 2003. Coral Power, Coral EM and Coral Canada state that they are power marketers and brokers with their principal place of business in Houston, Texas, and they do not directly own or control generation or transmission assets.

Comment Date: October 1, 2003.

5. Avista Corporation

[Docket No. ER99-1435-004]

Take notice that on September 10, 2003, Avista Corporation filed with the Commission its three-year updated market power analysis in compliance with the Commission's orders granting Avista market-based rate authorization.

Comment Date: October 1, 2003.

6. Avista Corporation

[Docket No. ER99-1435-004]

Take notice that on September 10, 2003, Avista Corporation filed with the Commission its three-year updated market power analysis in compliance with the Commission's orders granting Avista market-based rate authorization.

Comment Date: October 1, 2003.

7. Entergy Services, Inc., Generator Coalition v. Entergy Services, Inc. Consolidated

[Docket Nos. ER01-2201-005 and EL02-46-004]

Take notice that on September 8, 2003, Entergy Services, Inc, (Entergy) filed a refund report related to the refunds and rebillings ordered by the Commission in the above-referenced dockets. The refunds and rebillings addressed in this filing relate to the allocation of Qualifying Facility output. A copy of the refund report has been served on all parties to the service lists in the above-referenced proceedings and the state commissions in the Entergy region.

Comment Date: October 9, 2003.

8. Tampa Electric Company

[Docket No. ER03-48-001]

Take notice that on September 10, 2003, Tampa Electric Company (Tampa Electric) filed a refund report in compliance with the Commission's Letter Order of July 9, 2003, approving the settlement agreement in Docket No. ER03-48-000.

Tampa Electric states that copies of the refund report have been served on affected customers and the Florida Public Service Commission.

Comment Date: October 1, 2003.

9. Midwest Independent Transmission System Operator, Inc.

[Docket No. ER03-995-001]

Take notice that on September 11, 2003, the Midwest Independent Transmission System Operator, Inc. (Midwest ISO) pursuant to Section 205 of the Federal Power Act and Section 35.13 of the Commission's regulations, 18 CFR 35.13, submitted for filing a revised unexecuted Interconnection and Operating Agreement among American Transmission Company, the Midwest ISO and Wisconsin Public Service Company. Midwest ISO states that a copy of this filing was served on all parties to the proceeding.

Comment Date: October 1, 2003.

10. Aquila, Inc.

[Docket No. ER03-1079-001]

Take notice that on September 10, 2003, Aquila, Inc. on behalf of itself and as agent for its divisions Aquila Networks-MPS, Aquila Networks-WPK, Aquila Networks-WPC and Aquila Networks-L&P (collectively Aquila) tendered for filing additional proposed changes in its FERC Electric Tariff Volumes 28 and 29. The proposed changes amend Aquila's July 16, 2003 filing in this docket.

Comment Date: October 1, 2003.

11. TexPar Energy, Inc.

[Docket No. ER03-1219-001]

Take notice that on September 10, 2003, TexPar Energy, Inc. submitted an amendment to its August 15, 2003, Notice of Cancellation of its Market-based Rate Schedule.

Comment Date: October 1, 2003.

12. PJM Interconnection, L.L.C.

[Docket No. ER03-1239-001]

Take notice that on September 10, 2003, PJM Interconnection, L.L.C. (PJM), submitted for filing a revised interconnection service agreement (ISA) among PJM; Prince George's County, Maryland, A Body Corporate and Politic; and Potomac Electric Power Company.

PJM requests a waiver of the Commission's 60-day notice requirement to permit a July 24, 2003 effective date for the ISA.

PJM states that copies of this filing were served upon the parties to the agreements and the state regulatory commissions within the PJM region.

Comment Date: October 1, 2003.

13. WPS Resources Operating Companies

[Docket No. ER03-1323-000]

Take notice that on September 10, 2003, WPS Resources Operating Companies, on behalf of Wisconsin Public Service Corporation and Upper Peninsula Power Company (collectively, WPS Resources), tendered for filing an executed service agreement between WPS Resources and Madison Gas and Electric Company (MG&E) under WPS Resources' Joint Tariff for Sales of Ancillary Services and Wholesale Distribution Service, FERC Electric Tariff, Original Volume No. 2 (JAST) and a notice of cancellation and revised service agreement cover sheet (Cancellation Documents) to terminate a service agreement between WPS Resources and MG&E under WPS Resources' open access transmission tariff, FERC Electric Tariff, First Revised Volume No. 1.

WPS Resources respectfully requests that the Commission allow the JAST service agreement and the Cancellation Documents to become effective on September 1, 2003, the date service commenced under the JAST service agreement.

WPS states that copies of the filing were served upon MG&E and the Public Service Commission of Wisconsin.

Comment Date: October 1, 2003.

14. Colorado Green Holdings, LLC

[Docket No. ER03-1326-000]

Take notice that on September 10, 2003, Colorado Green Holdings, LLC (Colorado Green) filed with the Federal Energy Regulatory Commission (the Commission) pursuant to Section 205 of the Federal Power Act an Application for Order Accepting Initial Rate Schedule, which would allow Colorado Green to engage in the sale of electric energy and capacity at market-based rates. Colorado Green states it is engaged in the business of developing, and will construct, own, and operate, a 162 MW wind power generation facility located in Prowers County, Colorado. Colorado Green notes that it seeks certain waivers, blanket approvals, and authorizations under the Commission's regulations. Colorado Green also seeks waiver of the 60-day notice prefiling requirements under 18 CFR 35.3.

At present, Colorado Green states it is owned by GE Wind Energy, LLC, a subsidiary of General Electric Company. Colorado Grene also states that it is contemplated that, in the near future, ownership of Colorado Green will be transferred to new, wholly-owned subsidiary jointly owned by PPM Energy, Inc., an affiliate of PacifiCorp, an Oregon corporation and a regulated electric utility providing retail electric service in California, Oregon, Washington, Utah, Idaho, and Wyoming, and by Shell WindEnergy, a subsidiary of Shell Oil Company. The application requests that the Commission authorize market-based rates under both the existing and contemplated future ownership structures described in the application.

Comment Date: September 25, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00125 Filed 10-27-03; 8:45 am]

BILLING CODE 6717-01-P